DEPARTMENT OF ENERGY

Federal Energy Regulatory Commission

Combined Notice of Filings #1

Take notice that the Commission received the following electric corporate filings:

Docket Numbers: EC18-51-000.

Applicants: MDU Resources Group, Inc.

Description: Supplement to January 31, 2018 Application [Revised Exhibit N] for Authorization Under Section 203 of the Federal Power Act of MDU Resources Group, Inc.

Filed Date: 3/7/18.

Accession Number: 20180307-5144.

Comments Due: 5 p.m. ET 3/28/18.

Take notice that the Commission received the following exempt wholesale generator filings:

Docket Numbers: EG18-49-000.

Applicants: Midway Wind, LLC.

Description: Notice of Self-Certification of Exempt Wholesale Generator Status of Midway Wind, LLC.

Filed Date: 3/8/18.

Accession Number: 20180308-5018.

Comments Due: 5 p.m. ET 3/29/18.

Take notice that the Commission received the following electric rate filings:

Docket Numbers: ER18-378-002.

Applicants: Public Service Company of Colorado.

Description: Tariff Amendment: 20180308 5th Amended IREA PPA—Amended to be effective 12/5/2017.

Filed Date: 3/8/18.

Accession Number: 20180308-5143.

Comments Due: 5 p.m. ET 3/29/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 8, 2018.
Nathaniel J. Davis, Sr.,
Deputy Secretary.

[FR Doc. 2018-05094 Filed 3-13-18; 8:45 am]

BILLING CODE 6717-01-P